FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel-Operating Common Carrier Ocean Transportation Intermediary Applicants

Avango Logistics LLC, 552 N York Road, Bensenville, IL 60106, Officers: Konstantin B. Selikhov, Member (Qualifying Individual), Rostislav Chagovets, Member.

Non-Vessel-Operating Common Carrier and Ocean Freight Forwarder Transportation Intermediary Applicants

HYH International Cargo Services, Inc., dba H.Y.H. Container Line, 9107 NW 105th Way, Medley, FL 33178, Officer: Hans G. Hofmann, President (Qualifying Individual).

Ocean Star International, Inc., 10880 Wiles Road, Coral Springs, FL 33078, Officer: Joshua S. Morales, President (Qualifying Individual).

Container Loading Solutions International USA, LLC, 755 North Busse Highway, Ste. 217, Bensenville, IL 60106, Officer: Paul J. Gibbs, President (Qualifying Individual).

Fleur De Lis Worldwide LLC, 8302 Shady Ace Lane, Humble, TX 77346, Officer: Julie A. Turpin, President (Qualifying Individual).

Consolcargo USA Inc. dba CSC Consolidators, 10925 NW 27th Street, Ste. 102, Miami, FL 33172, Officers: Rocio D. Lugo, Director (Qualifying Individual), Peter Thomas, Vice President.

A Cargo Inc., 4634 E. Marginal Way S., Ste. C-120, Seattle, WA 98134-2328, Officers: Marcio Fanti, President, Patrick P. Policarpio, Vice President (Qualifying Individuals).

DNIPRO LLC, 645 West 1st Avenue, Roselle, NJ 07203, Officers: Yelena Cherepashenskaya, Manager (Qualifying Individual), Igor Pluta, President.

Target Logistic Services, Inc., 1400 Glenn Curtiss Street, Carson, CA 90746, Officer: Thomas F. Donahue, III, Vice President (Qualifying Individual).

Ocean Freight Forwarder—Ocean Transportation Intermediary Applicants

EP Logistics, LLC, 7 Founders Blvd., Ste. E, El Paso, TX 79906, Officer: Octavio Saavedra, Member (Qualifying Individual).

Concord Express Cargo, Inc., 172-14 119th Avenue, Jamaica Queens, NY 11434, Officers: Christopher E. Okafor, President (Qualifying Individual), Margaret X. Burnes, Secretary.

September 25, 2009.
Tanga S. FitzGibbon,
Assistant Secretary.

[FR Doc. E9-23568 Filed 9-29-09; 8:45 am]

BILLING CODE 6730-01-P